DEPARTMENT OF HOMELAND SECURITY

Federal Emergency Management Agency

[Docket ID FEMA-2022-0056; OMB No. 1660-0017]

Agency Information Collection Activities: Proposed Collection; Comment Request; Public Assistance Program

AGENCY: Federal Emergency Management Agency, Department of Homeland Security.

ACTION: 60 Day Notice of Revision and request for comments.

SUMMARY: The Federal Emergency Management Agency, as part of its continuing effort to reduce paperwork and respondent burden, invites the general public to take this opportunity to comment on an extension, with change, of a currently approved information collection. In accordance with the Paperwork Reduction Act of 1995, this notice seeks comments concerning information collected for the Public Assistance (PA) program eligibility determinations, grants management, and compliance with Federal laws and regulations.

DATES: Comments must be submitted on or before February 13, 2023.

ADDRESSES: To avoid duplicate submissions to the docket, please submit comments at https://www.regulations.gov under Docket ID FEMA-2022-0056. Follow the instructions for submitting comments.

All submissions received must include the agency name and Docket ID. Regardless of the method used for submitting comments or material, all submissions will be posted, without change, to the Federal eRulemaking Portal at https://www.regulations.gov, and will include any personal information you provide. Therefore, submitting this information makes it public. You may wish to read the Privacy and Security Notice that is available via a link on the homepage of https://www.regulations.gov.

FOR FURTHER INFORMATION CONTACT: Rachel Hildebrand, Acting Chief, Public Assistance Program Delivery Branch, Rachel.Hildebrand@fema.dhs.gov or 202-714-9731. You may contact the Information Management Division for copies of the proposed collection of information: FEMA-Information-Collections-Management@fema.dhs.gov.

SUPPLEMENTARY INFORMATION: The Robert T. Stafford Disaster Relief and Emergency Assistance Act, 42 U.S.C. 5121-5207 (Stafford Act), authorizes grants to assist State, local, and Tribal governments and certain private non-profit entities with the response to and recovery from disasters, following Presidentially-declared major disasters and emergencies. 44 CFR part 206 specifies the information collections necessary to facilitate the provision of assistance under the Public Assistance (PA) Program. 44 CFR 206.202 describes the general application procedures for the PA Program.

Collection of Information

Title: Public Assistance Program.

Type of Information Collection: Extension, with change, of a currently approved information collection.

OMB Number: 1660-0017.

FEMA Forms: FEMA Form FF-104-FY-22-233 Organization Profile, FEMA Form FF-104-FY-22-234, Recipient Incident Information; FEMA Form FF-104-FY-21-131 (formerly FF 009-0-49), Request for Public Assistance; FEMA Form FF-104-FY-22-235, Applicant Impact Survey; FEMA Form FF-104-FY-22-238, Pre-Approval Request; FEMA Form FF-104-FY-22-236, Impact List; FEMA Form FF-104-FY-22-239; Project Application for Debris Removal; FEMA Form FF-104-FY-22-240, Project Application for Emergency Protective Measures; FEMA Form FF-104-FY-22-242, Project Application for Infrastructure Restoration; FEMA Form FF-104-FY-22-243, Project Application for Building Code and Floodplain Administration and Enforcement; FEMA Form FF-104-FY-22-244, Project Application for Management Costs; FEMA Form FF-104-FY-22-245, Damage Information; FEMA Form FF-104-FY-22-241, Project Application for COVID-19; FEMA Form FF-104-FY-21-137 (formerly FF 009-0-123), Force Account Labor Summary Record; FEMA Form FF-104-FY-21-135 (formerly FF 009-0-128), Applicant's Benefits Calculation Worksheet; FEMA Form FF-104-FY-21-141 (formerly FF 009-0-127), Force Account Equipment Summary Record; FEMA Form FF-104-FY-21-138 (formerly FF 009-0-124), Materials Summary Record; FEMA Form FF-104-FY-21-139 (formerly FF 009-0-125), Rented Equipment Summary Record; FEMA Form FF-104-FY-21-140 (formerly FF 009-0-126), Contract Work Summary Record; FEMA Form FF-104-FY-22-237, Donated Labor Sign-in; FEMA Form FF-104-FY-21-132 (formerly FF 009-0-111), Quarterly Progress Reports; FEMA Form FF-104-FY-22-248, Time Extension; FEMA Form FF-104-FY-22-249, State Administrative Plan; FEMA Form FF-104-FY-21-250, Tribal Administrative Plan; Request for Appeals or Arbitrations; Request for Arbitration resulting from Hurricanes Katrina or Rita; FEMA Template 104-FY-21-100, Equitable COVID-19 Response and Recovery: Vaccine Administration Information; FEMA Form FF-104-FY-22-246, Environmental and Historic Preservation Addendum; FEMA Form FF-104-FY-22-247, Hazard Mitigation Addendum; and FEMA Form FF-104-FY-21-145 (formerly FF 009-0-141), FAC-TRAX System.

Abstract: The information collected is required for the Public Assistance (PA) Program eligibility determinations, grants management, and compliance with other Federal laws and regulations. The Robert T. Stafford Disaster Relief and Emergency Assistance Act, 42 U.S.C. 5121-5207 (the Stafford Act), authorizes grants to assist State, Tribal, and local governments and certain private non-profit entities with the response to and recovery from disasters following Presidentially declared major disasters and emergencies.

Affected Public: State, local or Tribal government and certain private non-profit entities.

Estimated Number of Respondents: 1,505.

Estimated Number of Responses: 635,269.

Estimated Total Annual Burden Hours: 341,635.

Estimated Total Annual Respondent Cost: $19,801,167.

Estimated Respondents' Operation and Maintenance Costs: $0.

Estimated Respondents' Capital and Start-Up Costs: $0.

Estimated Total Annual Cost to the Federal Government: $1,957,204.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-27082 Filed 12-13-22; 8:45 am]

BILLING CODE 9111-24-P